DEPARTMENT OF TRANSPORTATION

Federal Aviation Administration

14 CFR Part 39

[Docket No. FAA-2023-2144; Project Identifier MCAI-2023-00898-T]

RIN 2120-AA64

Airworthiness Directives; Airbus SAS Airplanes

AGENCY: Federal Aviation Administration (FAA), DOT.

ACTION: Notice of proposed rulemaking (NPRM).

SUMMARY: The FAA proposes to supersede Airworthiness Directive (AD) 2018-14-09, which applies to certain Airbus SAS Model A318 series airplanes; Model A319 series airplanes; Model A320-211, -212, -214, -216, -231, -232, and -233 airplanes; and Model A321-111, -112, -131, -211, -212, -213, -231, and -232 airplanes. AD 2018-14-09 requires repetitive inspections for cracking of the fastener holes in certain fuselage frames, and depending on airplane configuration, provides an optional terminating action to the repetitive inspections. Since the FAA issued AD 2018-14-09, it was determined that additional actions are necessary beyond those required by AD 2018-14-09. This proposed AD would continue to require the actions in AD 2018-14-09 and would require modified compliance times, as well as further inspections and optional terminating actions for certain airplanes, as specified in a European Union Aviation Safety Agency (EASA) AD, which is proposed for incorporation by reference (IBR). The FAA is proposing this AD to address the unsafe condition on these products.

DATES: The FAA must receive comments on this proposed AD by December 21, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-2144; or in person at Docket Operations between 9 a.m. and 5 p.m., Monday through Friday, except Federal holidays. The AD docket contains this NPRM, the mandatory continuing airworthiness information (MCAI), any comments received, and other information. The street address for Docket Operations is listed above.

Material Incorporated by Reference:

• For the EASA AD identified in this NPRM, contact EASA, Konrad-Adenauer-Ufer 3, 50668 Cologne, Germany; telephone +49 221 8999 000; email ADs@easa.europa.eu; website easa.europa.eu. You may find this material on the EASA website at ad.easa.europa.eu. It is also available at regulations.gov under Docket No. FAA-2023-2144.

• You may view this material at the FAA, Airworthiness Products Section, Operational Safety Branch, 2200 South 216th St., Des Moines, WA. For information on the availability of this material at the FAA, call 206-231-3195.

FOR FURTHER INFORMATION CONTACT: Timothy Dowling, Aviation Safety Engineer, FAA, 1600 Stewart Avenue, Suite 410, Westbury, NY 11590; telephone 817-222-5102; email timothy.p.dowling@faa.gov.

SUPPLEMENTARY INFORMATION:

Comments Invited

The FAA invites you to send any written relevant data, views, or arguments about this proposal. Send your comments to an address listed under ADDRESSES. Include “Docket No. FAA-2023-2144; Project Identifier MCAI-2023-00898-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Timothy Dowling, Aviation Safety Engineer, FAA, 1600 Stewart Avenue, Suite 410, Westbury, NY 11590; telephone 817-222-5102; email timothy.p.dowling@faa.gov. Any commentary that the FAA receives which is not specifically designated as CBI will be placed in the public docket for this rulemaking.

Background

The FAA issued AD 2018-14-09, Amendment 39-19329 (83 FR 34034, July 19, 2018) (AD 2018-14-09), for certain Airbus SAS Model A318 series airplanes; Model A319 series airplanes; Model A320-211, -212, -214, -216, -231, -232, and -233 airplanes; and Model A321-111, -112, -131, -211, -212, -213, -231, and -232 airplanes. AD 2018-14-09 was prompted by an MCAI originated by EASA, which is the Technical Agent for the Member States of the European Union. EASA issued AD 2016-0139, dated July 14, 2016, to correct an unsafe condition.

AD 2018-14-09 requires repetitive inspections for cracking of the fastener holes in certain fuselage frames, and depending on airplane configuration, provides an optional terminating action to the repetitive inspections. The FAA issued AD 2018-14-09 to address cracking at two upper rows of fasteners of the crossbeam splicing at frame (FR)16 and FR20, on both the left-hand (LH) and right-hand (RH) sides, which can result in reduced structural integrity of the airplane due to the failure of structural components.

Actions Since AD 2018-14-09 Was Issued

Since the FAA issued AD 2018-14-09, EASA superseded AD 2016-0139, dated July 14, 2016, and issued EASA AD 2023-0150, dated July 20, 2023 (EASA AD 2023-0150) (also referred to as the MCAI), to correct an unsafe condition for Airbus SAS A318-111, A318-112, A318-121, A318-122, A319-111, A319-112, A319-113, A319-114, A319-115, A319-131, A319-132, A319-133, A320-211, A320-212, A320-214, A320-215, A320-216, A320-231, A320-232, A320-233, A321-111, A321-112, A321-131, A321-211, A321-212, A321-213, A321-231 and A321-232 airplanes, all manufacturer serial numbers, except airplanes on which Airbus modification (mod) 161255 was embodied in production, Model A318 airplanes on which Airbus mod 39195 was embodied in production, or Airbus Service Bulletin A320-00-1219 was embodied in service; and Model A319 airplanes on which Airbus mod 28238, mod 28162, and mod 28342 were embodied in production. Model A320-215 airplanes are not certificated by the FAA and are not included on the U.S. type certificate data sheet; this proposed AD therefore does not include those airplanes in the applicability. The MCAI states that repetitive inspections were instituted due to reports of cracks on the four holes of the crossbeam splicing at FR16 and FR20 on both LH and RH sides. Following further assessments, the need was determined for additional inspections, reduced compliance times, and an additional terminating action option.

For the reasons described above, this proposed AD retains the requirements of AD 2018-14-09 (which corresponds to EASA AD 2016-0139), introduces new compliance times for airplanes that embody Airbus mod 20416 or mod 21999, expands the inspection area for airplanes that embody neither Airbus mod 20416 nor mod 21999, and adds a terminating action option.

The FAA is proposing this AD to address cracking at two upper rows of fasteners of the crossbeam splicing at FR16 and FR20, on both the LH and RH sides, which can result in reduced structural integrity of the airplane due to the failure of structural components. You may examine the MCAI in the AD docket at regulations.gov under Docket No. FAA-2023-2144.

Explanation of Retained Requirements

Although this proposed AD does not explicitly restate the requirements of AD 2018-14-09, this proposed AD would retain all of the requirements of AD 2018-14-09. Those requirements are referenced in EASA AD 2023-0150, which, in turn, is referenced in paragraph (g) of this proposed AD.

Related Service Information Under 1 CFR Part 51

EASA AD 2023-0150 specifies procedures for repetitive rototest inspections for cracking of the holes in certain fuselage frames and crossbeams and applicable corrective actions (including repairing cracking and replacing fasteners); and, for certain airplanes, procedures for modifying the airplane, including cold working instructions in certain fuselage frames and crossbeams, which would terminate the inspections (optional terminating action). This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI referenced above. The FAA is issuing this NPRM after determining that the unsafe condition described previously is likely to exist or develop in other products of the same type design.

Proposed AD Requirements in This NPRM

This proposed AD would retain all requirements of AD 2018-14-09. This proposed AD would require accomplishing the actions specified in EASA AD 2023-0150 described previously, except for any differences identified as exceptions in the regulatory text of this proposed AD and except as discussed under “Differences Between this Proposed AD and the MCAI.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2023-0150 by reference in the FAA final rule. This proposed AD would, therefore, require compliance with EASA AD 2023-0150 in its entirety through that incorporation, except for any differences identified as exceptions in the regulatory text of this proposed AD. Using common terms that are the same as the heading of a particular section in EASA AD 2023-0150 does not mean that operators need comply only with that section. For example, where the AD requirement refers to “all required actions and compliance times,” compliance with this AD requirement is not limited to the section titled “Required Action(s) and Compliance Time(s)” in EASA AD 2023-0150. Service information required by EASA AD 2023-0150 for compliance will be available at regulations.gov under Docket No. FAA-2023-2144 after the FAA final rule is published.

Differences Between This Proposed AD and the MCAI

Although the applicability of EASA AD 2023-0150 references Airbus Service Bulletin A320-00-1219, the FAA contacted Airbus and learned that the referenced service information has not been published. Therefore, this proposed AD does not include that service information in the applicability.

Where the service information referenced in paragraphs (8) and (9) of EASA AD 2023-0150, i.e., “Airbus SB A320-53-1295,” refers to actions when an existing hole diameter is “more than or equal to the minimum starting hole diameter,” paragraph (h)(6) of this proposed AD specifies to replace those words with “more than or equal to the maximum starting hole diameter.” In Airbus Operators Information Telex (OIT) 15-0097, Revision 01, dated January 7, 2016, Airbus confirmed that the corrective action in Airbus Service Bulletin A320-53-1295 that refers to “more than or equal to the minimum starting hole diameter” should be “more than or equal to the maximum starting hole diameter.” As explained in the “Request to Include Corrections to Service Information” paragraph in AD 2018-14-09, Airbus released OIT 15-0097, Revision 01, dated January 7, 2016, to correct discrepancies in Airbus Service Bulletin A320-53-1295, which is referred to paragraphs (k) and (m) of AD 2018-14-09. The FAA added paragraph (r) to AD 2018-14-09 to address the diameter hole discrepancy. Paragraphs (k) and (m) of AD 2018-14-09 correspond to paragraphs (8) and (9) of EASA AD 2023-0150. Paragraph (r) of AD 2018-14-09 corresponds to paragraph (h)(6) of this proposed AD.

Where rows B and C of the “Threshold” column in Table 1 of EASA AD 2023-0150 refer to “54 800 FH,” for this proposed AD, those words should be replaced with “54 900 FH” because the existing flight-hour interval specified in Table 1 of AD 2018-14-09 is 54,900 flight hours. Once the initial inspection is done within the “Threshold” compliance times in Table 1 of EASA AD 2023-0150, the new repetitive flight-hour interval will be 54,800 flight hours (flight-hour component only; the complete new interval is 27,400 flight cycles or 54,800 flight hours, whichever occurs first). The FAA has included this exception in paragraph (h)(3) of the proposed AD.

Costs of Compliance

The FAA estimates that this AD, if adopted as proposed, would affect 1,680 airplanes of U.S. registry. The FAA estimates the following costs to comply with this proposed AD:

Estimated Costs for Required Actions
Action | Labor cost | Parts cost | Cost per product | Cost on U.S. operators
Retained actions from AD 2018-14-09 | 31 work-hours × $85 per hour = $2,635 | $0 | $2,635 | $4,426,800

Estimated Costs for Optional Actions
Labor cost | Parts cost | Cost per product
28 work-hours × $85 per hour = $2,380 | $3,020 | $5,400

The FAA estimates the following costs to do any necessary on-condition actions that would be required based on the results of any required or optional actions. The FAA has no way of determining the number of aircraft that might need this on-condition action:

Estimated Costs of On-Condition Replacements
Labor cost | Parts cost | Cost per product
14 work-hours × $85 per hour = $1,190 | $50 | $1,240

The FAA has received no definitive data that would enable us to provide cost estimates for the on-condition repairs specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2018-14-09, Amendment 39-19329 (83 FR 34034, July 19, 2018); and

b. Adding the following new AD:

Airbus SAS: Docket No. FAA-2023-2144; Project Identifier MCAI-2023-00898-T.

(a) Comments Due Date

The FAA must receive comments on this airworthiness directive (AD) by December 21, 2023.

(b) Affected ADs

This AD replaces AD 2018-14-09, Amendment 39-19329 (83 FR 34034, July 19, 2018) (AD 2018-14-09).

(c) Applicability

This AD applies to Airbus SAS Model A318-111, -112, -121, and -122 airplanes; Model A319-111, -112, -113, -114, -115, -131, -132, and -133 airplanes; Model A320-211, -212, -214, -216, -231, -232, and -233 airplanes; and Model A321-111, -112, -131, -211, -212, -213, -231, and -232 airplanes; certificated in any category, all manufacturer serial numbers, except the airplanes specified in paragraphs (c)(1) through (3) of this AD.

(1) Airplanes on which Airbus modification 161255 has been embodied in production.

(2) Model A319 series airplanes on which Airbus modifications 28238, 28162, and 28342 have been concurrently embodied in production.

(3) Model A318 series airplanes on which Airbus modification 39195 has been embodied in production.

(d) Subject

Air Transport Association (ATA) of America Code 53, Fuselage.

(e) Unsafe Condition

This AD was prompted by reports of early cracking on the four holes of the crossbeam splicing at certain fuselage frames (FR). The FAA is issuing this AD to address cracking at two upper rows of fasteners of the crossbeam splicing at FR16 and FR20, on both the left-hand (LH) and right-hand (RH) sides. The unsafe condition, if not addressed, could result in reduced structural integrity of the airplane due to the failure of structural components.

(f) Compliance

Comply with this AD within the compliance times specified, unless already done.

(g) Requirements

Except as specified in paragraph (h) of this AD: Comply with all required actions and compliance times specified in, and in accordance with, European Union Aviation Safety Agency (EASA) AD 2023-0150, dated July 20, 2023 (EASA AD 2023-0150).

(h) Exceptions to EASA AD 2023-0150

(1) Where EASA AD 2023-0150 refers to “28 July 2016 [the effective date of EASA AD 2016-0139],” this AD requires using August 23, 2018 (the effective date of AD 2018-14-09).

(2) Where EASA AD 2023-0150 refers to its effective date, this AD requires using the effective date of this AD.

(3) Where rows B and C of the “Threshold” column in Table 1 of EASA AD 2023-0150 refer to “54 800 FH,” for this AD, replace those words with “54 900 FH.”

(4) Where paragraph (5) of EASA AD 2023-0150 refers to “valid within the EASA system,” for this AD, replace those words with “approved by the FAA, EASA, Airbus's EASA Design Organization Approval (DOA), or an EASA DOA (other than Airbus's EASA DOA).”

(5) Where paragraph (5) of EASA AD 2023-0150 specifies “contact that design approval holder (DAH) for assessment and repair instructions, obtain EASA AMOC approval and accomplish those instructions accordingly, as applicable,” for this AD, replace those words with “modify the repair using a method approved by the Manager, International Validation Branch, FAA; or EASA; or Airbus's EASA DOA. If approved by the DOA, the approval must include the DOA-authorized signature.”

(6) Where the service information referenced in paragraphs (8) and (9) of EASA AD 2023-0150 refers to actions when an existing hole diameter is “more than or equal to the minimum starting hole diameter,” for this AD, replace those words with “more than or equal to the maximum starting hole diameter.”

(7) This AD does not adopt the “Remarks” section of EASA AD 2023-0150.

(i) No Reporting Requirement

Although the service information referenced in EASA AD 2023-0150 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraphs (i) and (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Timothy Dowling, Aviation Safety Engineer, FAA, 1600 Stewart Avenue, Suite 410, Westbury, NY 11590; telephone 817-222-5102; email timothy.p.dowling@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2023-0150, dated July 20, 2023.

(ii) [Reserved]

(3) For EASA AD 2023-0150, contact EASA, Konrad-Adenauer-Ufer 3, 50668 Cologne, Germany; telephone +49 221 8999 000; email ADs@easa.europa.eu; website easa.europa.eu. You may find this EASA AD on the EASA website at ad.easa.europa.eu.

(4) You may view this service information at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Dated: Issued on October 30, 2023.
Victor Wicklund,
Deputy Director, Compliance & Airworthiness Division, Aircraft Certification Service.

[FR Doc. 2023-24300 Filed 11-3-23; 8:45 am]

BILLING CODE 4910-13-P